DEPARTMENT OF TRANSPORTATION

Federal Motor Carrier Safety Administration

Appointment of Representatives of the Uniform Carrier Registration Agreement Board of Directors

AGENCY: Federal Motor Carrier Safety Administration (FMCSA), DOT.

ACTION: Notice.

SUMMARY: This document announces the reappointment of the five State representatives of the Board of Directors which governs the Uniform Carrier Registration Agreement (UCRA) as authorized by the Safe, Accountable, Flexible, Efficient Transportation Equity Act: A Legacy for Users (SAFETEA-LU). This notice also announces the replacement of one Board who retired. The UCRA governs the collection and distribution of registration, financial responsibility information and fees paid by for-hire and private motor carriers, brokers, freight forwarders, and leasing companies. The UCRA replaced the Single State Registration System (SSRS), which was repealed January 1, 2007.

DATES: The appointment of the five State representative Board members is effective beginning on June 1, 2007. The appointment of the director Board member became effective February 26, 2007.

FOR FURTHER INFORMATION CONTACT: Mr. James Davis, Federal Motor Carrier Safety Administration, Office of Safety Programs (MC-ES), (202) 366-6406, 1200 New Jersey Avenue, SE., Washington, DC 20590. Office hours are from 8 a.m. to 5 p.m., ET, Monday through Friday except Federal holidays.

SUPPLEMENTARY INFORMATION:

Background

Section 4305 of SAFETEA-LU [Pub. L. 109-59, 119 Stat. 1144, August 10, 2005] created, under Title 49 U.S. Code, a new section 14504a titled “Unified Carrier Registration System plan and agreement.”Under the UCR Agreement, motor carriers, motor private carriers, brokers, freight forwarders, and leasing companies provide registration and financial responsibility information and pay certain fees. The Unified Carrier Registration Plan Board of Directors must issue rules and regulations to govern the UCR Agreement.

Title 49 U.S.C. 14504a(a)(9) defines the Unified Carrier Registration Plan as the organization of State, Federal, and industry representatives responsible for developing, implementing, and administering the UCR Agreement. Section 14504a(d)(1)(B) directed the Secretary to establish a Unified Carrier Registration Plan Board of Directors made up of 15 members representing FMCSA, State government, and the motor carrier industry. The Board also must recommend initial annual fees to be assessed against carriers, leasing companies, brokers, and freight forwarders under the UCR Agreement.

Section 14504a(d) stipulates that the Unified Carrier Registration Plan Board of Directors must consist of representatives from the following groups:

U.S. Department of Transportation (the Department): One individual, either the FMCSA Deputy Administrator or such other Presidential appointee from the Department, must represent the Department.

Federal Motor Carrier Safety Administration: One director must be selected from each of the FMCSA service areas (as defined by FMCSA on January 1, 2005) from among the chief administrative officers of the State agencies responsible for administering the UCR Agreement.

State Agencies: The five directors selected to represent State agencies must be from among the professional staffs of State agencies responsible for overseeing the administration of the UCR Agreement and must be nominated by the National Conference of State Transportation Specialists (NCSTS), a non-profit organization founded in 1959 and consisting of State agencies involved in transportation safety, insurance and consumer protection.

Motor Carrier Industry: Five directors must represent the motor carrier industry.

Board of Directors

Today's publication serves as public notice of the reappointment of the State representatives of the UCRA Board of Directors. The five members reappointed to the Board are as follows:

Avelino A. Gutierrez, Staff Counsel for the New Mexico Public Regulation Commission (NMPRC). Mr. Gutierrez has been with the NMPRC for over 15 years and his main area of expertise has been in the transportation field. From June 2003 to June 2004, Mr. Gutierrez served as President of the NCSTS.

Barbara Hague, Special Projects Coordinator within the Missouri Department of Transportation Motor Carrier Services (MODOT). Ms. Hague has 35 years of experience in State transportation regulation supervising the operating authority application, licensing, insurance, and tariff requirements for intrastate and interstate carriers, and has implemented a paperless office system for operating authority transactions with MODOT.

Dave Lazarides, Director of Processing and Information in the Transportation Bureau of the Illinois Commerce Commission and program manager of the Commercial Vehicle Information Systems and Network (CVISN) for the State of Illinois. Mr. Lazarides played a major role in the design of the SSRS software which has been adopted by 25 other States. He also serves as a consultant to States regarding electronic commerce initiatives and serves as chairman of the Electronic Commerce Committee for the NCSTS.

William Leonard, Director of the Freight Compliance and Safety Bureau, New York Department of Transportation (NYDOT). Mr. Leonard's office is responsible for both New York's Motor Carrier Safety Assistance Program and SSRS. The NYDOT is also responsible for the issuance of operating authority to for-hire intrastate motor carriers in the State of New York.

Terry Willert, Chief of the Colorado Public Utility Commission (COPUC) Transportation section. Mr. Willert currently serves as the NCSTS Treasurer and the Chair of its Strategic Planning Committee. He has been with the COPUC Transportation Section for 22 years as an investigator and as Chief. COPUC is responsible for administering the SSRS, permitting, insurance tracking, and safety of for-hire motor carriers in Colorado.

Today's notice also serves as public notice of the replacement of Mr. Anthony D. Portanova, Deputy Commissioner, Connecticut Department of Motor Vehicles, who retired from his State position on December 31, 2006 and is therefore no longer eligible for UCR Board membership. Mr. Portanova occupied the position from FMCSA's Eastern Service Center. Mr. Charles “Buddy” Covert, Director, Transportation Administration Division, Public Service Commission of West Virginia will serve as his replacement.

Board Member Term Limits

The five State representatives who are listed in this notice as members of the Board nominated by the NCSTS will serve a term of three years, expiring on May 31, 2010.

Mr. Charles “Buddy” Covert will complete the remainder of Mr. Portanova's initial 2-year appointment which began on June 1, 2006, expiring on May 31, 2008.

Issued on: July 10, 2007.
William A. Quade,
Acting Associate Administrator for Enforcement and Program Delivery.

[FR Doc. E7-13946 Filed 7-18-07; 8:45 am]

BILLING CODE 4910-EX-P